FEDERAL COMMUNICATIONS COMMISSION

Notice of Public Information Collection(s) Being Reviewed by the Federal Communications Commission for Extension Under Delegated Authority

November 9, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 23, 2006. If you anticipate that you will be submitting comments, but find it difficult to do so within the period of time allowed by this notice, you should advise the contact listed below as soon as possible.

ADDRESSES: You may submit your Paperwork Reduction Act (PRA) comments by e-mail or U.S. postal mail. To submit you comments by e-mail send them to: PRA@fcc.gov. To submit your comments by U.S. mail, mark it to the attention of Judith B. Herman, Federal Communications Commission, 445 12th Street, SW., Room 1-C804, Washington, DC 20554.

FOR FURTHER INFORMATION CONTACT: For additional information about the information collection(s) send an e-mail to PRA@fcc.gov or contact Judith B. Herman at 202-418-0214.

SUPPLEMENTARY INFORMATION:

OMB Control No.: 3060-0900.

Title: Compatibility of Wireless Services with Enhanced 911; Second Report and Order, CC Docket No. 94-102.

Form No.: N/A.

Type of Review: Extension of a currently approved collection.

Respondents: Individuals or households, business or other for-profit, not-for-profit institutions, and state, local or tribal government.

Number of Respondents: 140.

Estimated Time Per Response: 20 hours.

Frequency of Response: On occasion reporting requirement.

Total Annual Burden: 2,190 hours.

Total Annual Cost: N/A.

Privacy Act Impact Assessment: N/A.

Needs and Uses: The rules in this proceeding requires that analog cellular phones include a separate capability for processing 911 calls that permits those calls to be handled, where necessary, by either cellular carrier in the area. This rule applies to new handsets manufactured for sale in the United States after 02/13/00. The rulemaking also sets forth guidelines for 911 call completion methods that satisfy the Commission's rules and approved three methods for compliance with the call completion rules, Automatic A/B Roaming-Intelligent Retry, Adequate/Strongest Signal, and Selective Retry. Manufacturers may satisfy their requirement by selecting any one of these methods, all of which entail software or hardware modifications. This information submitted by manufacturers or carriers wishing to incorporate new or modified E911 call processing modes will be used to keep the Commission informed of technological developments and thus to ensure that the Commission's regulations are kept current and reflect the preferences of the industry in complying with E911 call completion regulations. The rulemaking also supported as a voluntary measure (not a requirement) industry efforts to educate users of analog phones with regard to capabilities of the A over B, B over A, (A/B, B/A) logic for 911 calls. This approach would provide that all analog cellular calls, including 911 calls, would be routed to the customer's preferred carrier if a usable channel is available. If a channel is not available, the handset would automatically switch to a usable channel on the other cellular carrier's system. The industry program to educate users should also inform customers of the possibility that an A/B, B/A approach could produce unexpected and wanted roaming charges in the case of ordinary calls.

Federal Communications Commission.
Marlene H. Dortch,
Secretary.

[FR Doc. 05-22842 Filed 11-22-05; 8:45 am]

BILLING CODE 6712-01-P